DEPARTMENT OF THE INTERIOR

Bureau of Land Management

[WO-310-1310-PB-24 1A; OMB Control Number 1004-0185]

Information Collection Submitted to the Office of Management and Budget Under the Paperwork Reduction Act

The Bureau of Land Management (BLM) has submitted the proposed collection of information listed below to the Office of Management and Budget (OMB) for approval under the provisions of the Paperwork Reduction Act (44 U.S.C. 3501 et seq.). On September 20, 2005, the BLM published a notice in the Federal Register (70 FR 55160) requesting comments on this proposed collection. The comment period ended on November 21, 2005. The BLM received no comments. You may obtain copies of the proposed collection of information and related forms and explanatory material by contacting the BLM Information Collection Clearance Officer at the telephone number listed below.

The OMB is required to respond to this request within 60 days but may respond after 30 days. For maximum consideration your comments an suggestions on the requirement should be made within 30 days directly to the Office of Management and Budget, Interior Department Desk Officer (1004-0185), at OMB-OIRA via facsimile to (202) 395-6566 or e-mail to OIRA_DOCKET@omb.eop.gov. Please provide a copy of our comments to the Bureau Information Collection Clearance Officer (WO-630), Bureau of Land Management, Eastern States Office, 7450 Boston Blvd., Springfield, Virginia 22153.

Nature of Comments: We specifically request your comments on the following:

1. Whether the collection of information is necessary for the proper functioning of the BLM, including whether the information will have practical utility;

2. The accuracy of the BLM's estimate of the burden of collecting the information, including the validity of the methodology and assumptions used;

3. The quality, utility and clarity of the information to be collected; and

4. How to minimize the burden of collecting the information on those who are to respond, including the use of appropriate automated, electronic, mechanical, or other forms of information technology.

Title: Oil and Gas Exploration, Leasing, and Drainage Operations (43 CFR parts 3100, 3120, 3150, 3162).

OMB Control Number: 1004-0185.

Bureau Form Number: Non-form information.

Abstract: The Bureau of Land Management proposes to extend the currently approved collection of information to determine whether applicants are qualified to conduct oil and gas exploration and leasing activities. BLM will also determine if oil and gas lessees are ensuring that their leases are protected from drainage.

Frequency: On occasion.

Description of Respondents: Individuals, small businesses, and oil and gas exploration and drilling companies, lessees, and operators.

Estimated Completion Time:

Information collection | Requirement | Number of responses | Reporting hours per respondent | Total hours
3100.3-1 | Notice of option holdings | 30 | 1 | 30
3100.3-3 | Option statement | 50 | 1 | 50
3101.2-4(a) | Excess acreage petition | 10 | 1 | 10
3101.2-6 | Showings statement | 10 | 1.5 | 15
3101.3-1 | Joinder evidence statement | 50 | 1 | 50
3103.4-1 | Waiver, suspension, reduction of rental, etc. | 20 | 2 | 40
3105.2 | Communication or drilling agreement | 150 | 2 | 300
3105.3 | Operating, drilling, development contracts interested statement | 50 | 2 | 100
3105.4 | Joint operations; transportation of oil applications | 20 | 1 | 20
3105.5 | Subsurface storage application | 50 | 1 | 50
3106.8-1 | Heirs and devisee statement | 40 | 1 | 40
3106.8-2 | Change of name report | 60 | 1 | 60
3106.8-3 | Corporate merger notice | 100 | 2 | 200
3107.8 | Lease renewal application | 30 | 1 | 30
3108.1 | Relinquishments | 150 | .5 | 75
3108.2 | Reinstatement petition | 500 | .5 | 250
3109.1 | Leasing under rights-of-way application | 20 | 1 | 20
3120.1-1(e) | Lands available for leasing | 280 | 2.5 | 700
3120.1-3 | Protests and appeals | 90 | 1.5 | 135
3152.1 | Oil and gas exploration in Alaska application | 20 | 1 | 20
3152.6 | Data collection | 20 | 1 | 20
3152.7 | Completion of operations reports | 20 | 1 | 20
Totals |  | 1,770 |  | 2,235

The table below summarizes the burden and cost estimates.

Type of analysis | Number of analyses | Hours | Cost
Preliminary | 1,000 | 2,000 | $60,000
Detailed | 100 | 2,400 | 72,000
Additional | 10 | 200 | 8,000
Total | 1,110 | 4,600 | 140,000

Respondents submitting the drainage determination analyses and results are individuals, oil companies, and small businesses who are familiar with the collection requirements.

Annual Responses: 2,880.

Application Fee Per Response: 0.

Annual Burden Hours: 6,835.

Bureau Clearance Officer: Ted Hudson, (202) 452-5033.

Dated: February 9, 2006.
Ted R. Hudson,
Bureau of Land Management, Acting, Information Collection Clearance Officer.

[FR Doc. 06-5611 Filed 6-21-06; 8:45 am]

BILLING CODE 4310-84-M